DEPARTMENT OF VETERANS AFFAIRS

[OMB Control No. 2900-0216]

Agency Information Collection Activity Under OMB Review: Application for Accrued Amounts Due a Deceased Beneficiary

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by September 17, 2025.

ADDRESSES: To submit comments and recommendations for the proposed information collection, please type the following link into your browser: www.reginfo.gov/public/do/PRAMain, select “Currently under Review—Open for Public Comments”, then search the list for the information collection by Title or “OMB Control No. 2900-0216.”

FOR FURTHER INFORMATION CONTACT: VA PRA information: Dorothy Glasgow, 202-461-1084, VAPRA@va.gov.

SUPPLEMENTARY INFORMATION:

Title: VA Form 21P-601, Application for Accrued Amounts Due a Deceased Beneficiary.

OMB Control Number: 2900-0216 https://www.reginfo.gov/public/do/PRASearch.

Type of Review: Extension of a currently approved collection.

Abstract: The VA Form 21P-601 gathers the information necessary to determine a claimant's entitlement to accrued benefits. Accrued benefits are VA benefits due but unpaid to a beneficiary at death. Benefits are paid to eligible survivors based on the priority described in 38 U.S.C. 5121(a). When no eligible survivors are entitled to accrued benefits based on their relationship to the deceased beneficiary, the person or persons who bore the expenses of the beneficiary's last illness and burial may claim reimbursement for these expenses from accrued amounts. No changes have been made to this form, and the respondent burden has remained the same.

An agency may not conduct or sponsor, and a person is not required to respond to a collection of information unless it displays a currently valid OMB control number. The Federal Register Notice with a 60-day comment period soliciting comments on this collection of information was published at 90 FR 25430, June 16, 2025.

Affected Public: Individuals or Households.

Estimated Annual Burden: 2,725 hours.

Estimated Average Burden per Respondent: 30 minutes.

Frequency of Response: One time.

Estimated Number of Respondents: 5,449.

Authority: 44 U.S.C. 3501 et seq.

Lanea Haynes,
Acting, VA PRA Clearance Officer, (Alt), Office of Enterprise and Integration, Data Governance Analytics, Department of Veterans Affairs.

[FR Doc. 2025-15681 Filed 8-15-25; 8:45 am]

BILLING CODE 8320-01-P